DEPARTMENT OF HOMELAND SECURITY

Federal Emergency Management Agency

[Docket ID FEMA-2021-0002; Internal Agency Docket No. FEMA-B-2175]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Lee | City of Opelika (21-04-1315P) | The Honorable Gary Fuller, Mayor, City of Opelika, P.O. Box 390, Opelika, AL 36803 | Department of Public Works, 700 Fox Trail, Opelika, AL 38301 | https://msc.fema.gov/portal/advanceSearch | Dec. 22, 2021 | 010145
Mobile | City of Mobile (21-04-1400P) | The Honorable William Stimpson, Mayor, City of Mobile, P.O. Box 1827, Mobile, AL 36633 | City Clerk's Office, 205 Government Street, Mobile, AL 36602 | https://msc.fema.gov/portal/advanceSearch | Dec. 30, 2021 | 015007
Morgan | Town of Priceville (20-04-3422P) | The Honorable Sam Heflin, Mayor, Town of Priceville, 242 Marco Drive, Priceville, AL 35603 | Morgan County Engineering Department, 580 Shull Road, Hartselle, AL 35640 | https://msc.fema.gov/portal/advanceSearch | Dec. 30, 2021 | 010448
Morgan | Unincorporated Areas of Morgan County (20-04-3422P) | The Honorable Ray Long, Chairman, Morgan County Commission, 302 Lee Street Northeast, Decatur, AL 35601 | Morgan County Engineering Department, 580 Shull Road, Hartselle, AL 35640 | https://msc.fema.gov/portal/advanceSearch | Dec. 30, 2021 | 010175
California:
Santa Barbara | City of Goleta (21-09-0174P) | The Honorable Paula Perotte, Mayor, City of Goleta, 130 Cremona Drive, Suite B, Goleta, CA 93117 | Public Works Department, 130 Cremona Drive, Suite B, Goleta, CA 93117 | https://msc.fema.gov/portal/advanceSearch | Jan. 31, 2022 | 060771
Santa Barbara | Unincorporated areas of Santa Barbara County (21-09-0174P) | Ms. Mona Miyasato, Santa Barbara County Executive Officer, 105 East Anapamu Street, Suite 406, Santa Barbara, CA 93101 | Santa Barbara County Flood Control & Water Conservation District, 130 East Victoria Street, Suite 200, Santa Barbara, CA 93101 | https://msc.fema.gov/portal/advanceSearch | Jan. 31, 2022 | 060331
Colorado:
Boulder | Town of Erie (21-08-0313P) | The Honorable Jennifer Carroll, Mayor, Town of Erie, P.O. Box 750, Erie, CO 80516 | Town Hall, 645 Holbrook Street, Erie, CO 80516 | https://msc.fema.gov/portal/advanceSearch | Jan. 26, 2022 | 080181
Boulder | Unincorporated areas of Boulder County (21-08-0313P) | The Honorable Matt Jones, Chairman, Boulder County Board of Commissioners, P.O. Box 471, Boulder, CO 80306 | Boulder County Transportation Department, 2525 13th Street, Suite 203, Boulder, CO 80304 | https://msc.fema.gov/portal/advanceSearch | Jan. 26, 2022 | 080023
Larimer | City of Fort Collins (21-08-0194P) | The Honorable Jeni Arndt, Mayor, City of Fort Collins, P.O. Box 580, Fort Collins, CO 80522 | Stormwater Utilities Department, 700 Wood Street, Fort Collins, CO 80521 | https://msc.fema.gov/portal/advanceSearch | Jan. 12, 2022 | 080102
Larimer | Town of Berthoud (21-08-0072P) | Mr. Chris Kirk, Administrator, Town of Berthoud, P.O. Box 1229, Berthoud, CO 80513 | Public Works Department, 807 Mountain Avenue, Berthoud, CO 80513 | https://msc.fema.gov/portal/advanceSearch | Jan. 14, 2022 | 080296
Larimer | Unincorporated areas of Larimer County (21-08-0072P) | The Honorable John Kefalas, Chairman, Larimer County Board of Commissioners, 200 West Oak Street, Suite 2200, Fort Collins, CO 80521 | Larimer County Engineering Department, 200 West Oak Street, Suite 3000, Fort Collins, CO 80521 | https://msc.fema.gov/portal/advanceSearch | Jan. 14, 2022 | 080101
Larimer | Unincorporated areas of Larimer County (21-08-0194P) | The Honorable John Kefalas, Chairman, Larimer County Board of Commissioners, 200 West Oak Street, Suite 2200, Fort Collins, CO 80521 | Larimer County Engineering Department, 200 West Oak Street, Suite 3000, Fort Collins, CO 80521 | https://msc.fema.gov/portal/advanceSearch | Jan. 14, 2022 | 080101
Weld | City of Evans (21-08-0633P) | The Honorable Brian Rudy, Mayor, City of Evans, 1100 37th Street, Evans, CO 80620 | City Hall, 1100 37th Street, Evans, CO 80620 | https://msc.fema.gov/portal/advanceSearch | Jan. 27, 2022 | 080182
Weld | Unincorporated areas of Weld County (21-08-0633P) | The Honorable Steve Moreno, Chairman, Weld County Board of Commissioners, P.O. Box 758, Greeley, CO 80632 | Weld County Commissioner's Office, 1150 O Street, Greeley, CO 80631 | https://msc.fema.gov/portal/advanceSearch | Jan. 27, 2022 | 080266
Florida:
Monroe | City of Marathon (21-04-4337P) | The Honorable Luis Gonzalez, Mayor, City of Marathon, 9805 Overseas Highway, Marathon, FL 33050 | Planning Department, 9805 Overseas Highway, Marathon, FL 33050 | https://msc.fema.gov/portal/advanceSearch | Jan. 18, 2022 | 120681
Monroe | Village of Islamorada (21-04-3944P) | The Honorable Buddy Pinder, Mayor, Village of Islamorada, 86800 Overseas Highway, Islamorada, FL 33036 | Building Department, 86800 Overseas Highway, Islamorada, FL 33036 | https://msc.fema.gov/portal/advanceSearch | Dec. 27, 2021 | 120424
Polk | City of Lakeland (20-04-4215P) | The Honorable Bill Mutz, Mayor, City of Lakeland, 228 South Massachusetts Avenue, Lakeland, FL 33801 | Public Works Department, Lakes and Stormwater Division, 407 Fairway Avenue, Lakeland, FL 33801 | https://msc.fema.gov/portal/advanceSearch | Jan. 13, 2022 | 120267
Polk | Unincorporated areas of Polk County (20-04-4215P) | The Honorable Rick Wilson, Chairman, Polk County Board of Commissioners, P.O. Box 9005, Drawer BC01, Bartow, FL 33831 | Polk County Land Development Division, 330 West Church Street, Bartow, FL 33830 | https://msc.fema.gov/portal/advanceSearch | Jan. 13, 2022 | 120261
Polk | Unincorporated areas of Polk County (21-04-1668P) | The Honorable Rick Wilson, Chairman, Polk County Board of Commissioners, P.O. Box 9005, Drawer BC01, Bartow, FL 33831 | Polk County Land Development Division, 330 West Church Street, Bartow, FL 33830 | https://msc.fema.gov/portal/advanceSearch | Feb. 3, 2022 | 120261
Volusia | City of DeBary (21-04-0574P) | Ms. Carmen Rosamonda, Manager, City of Debary, 16 Colombia Road, DeBary, FL 32713 | City Hall, 16 Colombia Road, DeBary, FL 32713 | https://msc.fema.gov/portal/advanceSearch | Jan. 19, 2022 | 120672
Montana: Stillwater | Unincorporated areas of Stillwater County (21-08-0127P) | The Honorable Mark Crago, Chairman, Stillwater County Board of Commissioners, P.O. Box 970, Columbus, MT 59019 | Stillwater County South Annex, 17 North 4th Street, Columbus, MT 59019 | https://msc.fema.gov/portal/advanceSearch | Jan. 21, 2022 | 300078
New Mexico:
Bernalillo | Unincorporated areas of Bernalillo County (21-06-1463P) | The Honorable Charlene E. Pyskoty, Chair, Bernalillo County Board of Commissioners, 415 Silver Avenue Southwest, 8th Floor, Albuquerque, NM 87102 | Bernalillo County Public Works Division, 415 Silver Avenue Southwest, 5th Floor, Albuquerque, NM 87102 | https://msc.fema.gov/portal/advanceSearch | Feb. 2, 2022 | 350001
Valencia | Pueblo of Isleta (21-06-0607P) | The Honorable Vernon Abeita, Governor, Pueblo of Isleta, P.O. Box 1290, Isleta, NM 87022 | Isleta Pueblo, Tribal Road 40, Building 117A, Isleta, NM 87022 | https://msc.fema.gov/portal/advanceSearch | Feb. 4, 2022 | 350057
Valencia | Unincorporated areas of Valencia County (21-06-0607P) | Mr. Danny Monette, Valencia County Manager, P.O. Box 1119, Los Lunas, NM 87031 | Valencia County Planning and Zoning Department, 444 Luna Avenue, Los Lunas, NM 87031 | https://msc.fema.gov/portal/advanceSearch | Feb. 4, 2022 | 350086
Valencia | Village of Los Lunas (21-06-0607P) | The Honorable Charles Griego, Mayor, Village of Los Lunas, P.O. Box 1209, Los Lunas, NM 87031 | Community Development Department, 600 Main Street Northwest, Los Lunas, NM 87031 | https://msc.fema.gov/portal/advanceSearch | Feb. 4, 2022 | 350144
South Carolina: Charleston | City of North Charleston (21-04-4892P) | The Honorable R. Keith Summey, Mayor, City of North Charleston, 2500 City Hall Lane, North Charleston, SC 29406 | Building Department, 2500 City Hall Lane, North Charleston, SC 29406 | https://msc.fema.gov/portal/advanceSearch | Jan. 24, 2022 | 450042
Tennessee: Williamson | Unincorporated areas of Williamson County (21-04-2547P) | The Honorable Rogers Anderson, Mayor, Williamson County, 1320 West Main Street, Suite 125, Franklin, TN 37064 | Williamson County Administrative Complex, 1320 West Main Street, Suite 400, Franklin, TN 37064 | https://msc.fema.gov/portal/advanceSearch | Jan. 21, 2022 | 470204
Texas:
Montgomery | City of Conroe (21-06-0853P) | The Honorable Jody Czajkoski, Mayor, City of Conroe, 700 Metcalf Street, Conroe, TX 77301 | City Hall, 700 Metcalf Street, Conroe, TX 77301 | https://msc.fema.gov/portal/advanceSearch | Jan. 7, 2022 | 480484
Montgomery | Unincorporated areas of Montgomery County (21-06-0853P) | The Honorable Mark J. Keough, Montgomery County Judge, 501 North Thompson Street, Suite 401, Conroe, TX 77301 | Montgomery County Commissioners Court Building, 501 North Thompson Street, Suite 103, Conroe, TX 77301 | https://msc.fema.gov/portal/advanceSearch | Jan. 7, 2022 | 480483
Tarrant | City of Benbrook (21-06-2442P) | The Honorable Jerry Dittrich, Mayor, City of Benbrook, 911 Winscott Road, Benbrook, TX 76126 | City Hall, 911 Winscott Road, Benbrook, TX 76126 | https://msc.fema.gov/portal/advanceSearch | Jan. 20, 2022 | 480586
Tarrant | City of Fort Worth (21-06-0792P) | The Honorable Mattie Parker, Mayor, City of Fort Worth, 200 Texas Street, Fort Worth, TX 76102 | Transportation and Public Works Department, Engineering Vault, 200 Texas Street, Fort Worth, TX 76102 | https://msc.fema.gov/portal/advanceSearch | Jan. 24, 2022 | 480596
Tarrant | City of Fort Worth (21-06-2442P) | The Honorable Mattie Parker, Mayor, City of Fort Worth, 200 Texas Street, Fort Worth, TX 76102 | Transportation and Public Works Department, Engineering Vault, 200 Texas Street, Fort Worth, TX 76102 | https://msc.fema.gov/portal/advanceSearch | Jan. 20, 2022 | 480596
Tarrant | City of Keller (21-06-1040P) | The Honorable Armin R. Mizani, Mayor, City of Keller, P.O. Box 770, Keller, TX 76244 | City Hall, 1100 Bear Creek Parkway, Keller, TX 76248 | https://msc.fema.gov/portal/advanceSearch | Jan. 20, 2022 | 480602
Travis | City of Austin (21-06-1313P) | The Honorable Steve Adler, Mayor, City of Austin, P.O. Box 1088, Austin, TX 78767 | Watershed Protection Department, 505 Barton Springs Road, 12th Floor, Austin, TX 78704 | https://msc.fema.gov/portal/advanceSearch | Jan. 18, 2022 | 480624
Travis | City of Pflugerville (21-06-0589P) | The Honorable Victor Gonzales, Mayor, City of Pflugerville, P.O. Box 589, Pflugerville, TX 78691 | Development Services Department, 201-B East Pecan Street, Pflugerville, TX 78691 | https://msc.fema.gov/portal/advanceSearch | Jan. 18, 2022 | 481028
Travis | Unincorporated areas of Travis County (21-06-0589P) | The Honorable Andy Brown, Travis County Judge, P.O. Box 1748, Austin, TX 78767 | Travis County Transportation and Natural Resources Department, 700 Lavaca Street, 5th Floor, Austin, TX 78701 | https://msc.fema.gov/portal/advanceSearch | Jan. 18, 2022 | 481026
Utah: Salt Lake | City of West Valley City (21-08-0105P) | Mr. Wayne T. Pyle, Manager, City of West Valley City, 3600 South Constitution Boulevard, West Valley City, UT 84119 | Engineering Division, 3600 South Constitution Boulevard, West Valley City, UT 84119 | https://msc.fema.gov/portal/advanceSearch | Jan. 10, 2022 | 510168
Virginia:
Prince William | City of Manassas (21-03-0526P) | Mr. W. Patrick Pate, City of Manassas Manager, 9027 Center Street, Manassas, VA 20110 | Engineering Department, 8500 Public Works Drive, Manassas, VA 20110 | https://msc.fema.gov/portal/advanceSearch | Jan. 21, 2022 | 510122
Prince William | Unincorporated areas of Prince William County (21-03-0526P) | Mr. Christopher E. Martino, Prince William County Executive, 1 County Complex Court, Prince William, VA 22192 | Prince William County Watershed Management Branch, 5 County Complex Court, Suite 170, Prince William, VA 22192 | https://msc.fema.gov/portal/advanceSearch | Jan. 21, 2022 | 510119
Washington | Unincorporated areas of Washington County (21-03-0800P) | Mr. Jason Berry, Washington County Administrator, 1 Government Center Place, Suite A, Abingdon, VA 24210 | Washington County Government Center, 1 Government Center Place, Suite A, Abingdon, VA 24210 | https://msc.fema.gov/portal/advanceSearch | Jan. 6, 2022 | 510168

[FR Doc. 2021-23240 Filed 10-25-21; 8:45 am]

BILLING CODE 9110-12-P